DEPARTMENT OF TRANSPORTATION

Coast Guard

33 CFR Part 117

[CGD01-02-123]

Drawbridge Operation Regulations: Taunton River, MA

AGENCY: Coast Guard, DOT.

ACTION: Notice of temporary deviation from regulations.

SUMMARY: The Commander, First Coast Guard District, has issued a temporary deviation from the drawbridge operation regulations for the Brightman Street Bridge, mile 1.8, across the Taunton River between Fall River and Somerset, Massachusetts. This deviation from the regulations allows the bridge to open only one lift span for the passage of vessel traffic from 9 p.m. on November 8, 2002 through 4 p.m. on November 22, 2002. During this deviation the Fall River lift span will remain in the closed position for vessel traffic and the Somerset lift span will be fully operational at all times. This deviation is necessary to facilitate scheduled maintenance at the bridge.

DATES: This deviation is effective from November 8, 2002 through November 22, 2002.

FOR FURTHER INFORMATION CONTACT: John W. McDonald, Project Officer, First Coast Guard District, at (617) 223-8364.

SUPPLEMENTARY INFORMATION: The bridge owner, Massachusetts Highway Department, requested a temporary deviation from the drawbridge operating regulations to facilitate necessary structural repairs at the bridge, replacement of the main floor beam, at the bridge.

Under this deviation the Brightman Street Bridge, mile 1.8, across the Taunton River in Massachusetts, will be allowed to open only a single lift span for the passage of vessel traffic from 9 p.m. on November 8, 2002 through 4 p.m. on November 22, 2002. During this deviation the Fall River lift span will remain in the closed position for vessel traffic and the Somerset lift span will be fully operational at all times.

There have been few requests to open this bridge during the requested time period scheduled for these structural repairs in past years. The Coast Guard and the bridge owner coordinated this closure with the facilities upstream from the bridge and no objections to this scheduled closure were received.

This deviation from the operating regulations is authorized under 33 CFR 117.35, and will be performed with all due speed in order to return the bridge to normal operation as soon as possible.

Dated: October 18, 2002.
V.S. Crea,
Rear Admiral, Coast Guard, Commander, First Coast Guard District.

[FR Doc. 02-27373 Filed 10-25-02; 8:45 am]

BILLING CODE 4910-15-U